DEPARTMENT OF HOMELAND SECURITY

Federal Emergency Management Agency

[Docket ID FEMA-2014-0002]

Changes in Flood Hazard Determinations

AGENCY: Federal Emergency Management Agency, DHS.

ACTION: Final Notice.

SUMMARY: New or modified Base (1% annual-chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Alabama:
Baldwin (FEMA Docket No.: B-1411) | City of Gulf Shores (13-04-7450P) | The Honorable Robert Craft, Mayor, City of Gulf Shores, P.O. Box 299, Gulf Shores, AL 36547 | Community Development Department, 1905 West 1st Street, Gulf Shores, AL 36547 | June 16, 2014 | 015005
Houston (FEMA Docket No.: B-1411) | City of Dothan (13-04-5057P) | The Honorable Mike Schmitz, Mayor, City of Dothan, P.O. Box 2128, Dothan, AL 36302 | Engineering Department, 126 North St. Andrews Street, Dothan, AL 36303 | June 20, 2014 | 010104
Arizona:
Maricopa (FEMA Docket No.: B-1417) | City of Phoenix (13-09-1002P) | The Honorable Greg Stanton, Mayor, City of Phoenix, 200 West Washington Street, 11th Floor, Phoenix, AZ 85003 | Street Transportation Department, 200 West Washington Street, 5th Floor, Phoenix, AZ 85003 | June 6, 2014 | 040051
Pima (FEMA Docket No.: B-1411) | Unincorporated areas of Pima County, (13-09-3190P) | The Honorable Ramon Valadez, Chairman, Pima County Board of Supervisors, 130 West Congress Street, 11th Floor, Tucson, AZ 85701 | Pima County Flood Control District, 97 East Congress Street, 3rd Floor, Tucson, AZ 85701 | June 6, 2014 | 040073
California:
San Bernardino (FEMA Docket No.: B-1411) | City of Fontana, (14-09-0709P) | The Honorable Acquanetta Warren, Mayor, City of Fontana, 8353 Sierra Avenue, Fontana, CA 92335 | Engineering Department, 8353 Sierra Avenue, Fontana, CA 92335 | June 13, 2014 | 060274
Sonoma (FEMA Docket No.: B-1411) | City of Petaluma, (14-09-1064P) | The Honorable David Glass, Mayor, City of Petaluma, 11 English Street, Petaluma, CA 94952 | Department of Public Works and Utilities, 11 English Street, Petaluma, CA 94952 | June 20, 2014 | 060379
Sutter (FEMA Docket No.: B-1417) | City of Live Oak, (14-09-0812P) | The Honorable Steve Alvarado, Mayor, City of Live Oak, 9955 Live Oak Boulevard, Live Oak, CA 95953 | Building Department, 9955 Live Oak Boulevard, Live Oak, CA 95953 | June 13, 2014 | 060395
Florida:
Bay (FEMA Docket No.: B-1411) | City of Panama City Beach (13-04-6018P) | The Honorable Gayle Oberst, Mayor, City of Panama City Beach, 110 South Arnold Road, Panama City Beach, FL 32413 | Building Department, 110 South Arnold Road, Panama City Beach, FL 32413 | June 20, 2014 | 120013
Bay (FEMA Docket No.: B-1411) | City of Panama City Beach (13-04-8211P) | The Honorable Gayle Oberst, Mayor, City of Panama City Beach, 110 South Arnold Road, Panama City Beach, FL 32413 | Building Department, 110 South Arnold Road, Panama City Beach, FL 32413 | June 20, 2014 | 120013
Bay (FEMA Docket No.: B-1411) | Unincorporated areas of Bay County (13-09-8211P) | The Honorable Guy M. Tunnell, Chairman, Bay County Board of Commissioners, 808 West 11th Street, Panama City, FL 32401 | Bay County Planning and Zoning Department, 707 Jenks Avenue, Suite B, Panama City, FL 32401 | June 20, 2014 | 120004
Broward (FEMA Docket No.: B-1407) | Town of Lauderdale-By-The-Sea (13-04-6349P) | The Honorable Roseann Minnet, Mayor, Town of Lauderdale-By-The-Sea, 4501 Ocean Drive, Lauderdale-By-The-Sea, FL 33308 | Town Hall, 4501 Ocean Drive, Lauderdale-By-The-Sea, FL 33308 | April 18, 2014 | 125123
Charlotte (FEMA Docket No.: B-1417) | Unincorporated areas of Charlotte County (14-04-0645P) | The Honorable Ken Doherty, Chairman, Charlotte County Board of Commissioners, 18500 Murdock Circle, Port Charlotte, FL 33948 | Charlotte County Community Development Department, 18500 Murdock Circle, Port Charlotte, FL 33948 | May 30, 2014 | 120061
Escambia (FEMA Docket No.: B-1417) | Pensacola Beach-Santa Rosa Island Authority (13-04-6705P) | The Honorable Thomas A. Campanella, Chairman, Pensacola Beach-Santa Rosa Island Authority Board of Commissioners, P.O. Box 1208, Pensacola Beach, FL 32562 | Development Department, 1 Via De Luna, Pensacola Beach, FL 32562 | June 2, 2014 | 125138
Escambia (FEMA Docket No.: B-1417) | Unincorporated areas of Escambia County (13-04-7536P) | The Honorable Gene M. Valentino, Chairman, Escambia County Board of Commissioners, 221 Palafox Place, Suite 400, Pensacola, FL 32502 | Escambia County Development Services Department, 3363 West Park Place, Pensacola, FL 32505 | June 16, 2014 | 120080
Pinellas (FEMA Docket No.: B-1417) | City of Dunedin (13-04-7013P) | The Honorable Dave Eggers, Mayor, City of Dunedin, 542 Main Street, Dunedin, FL 34698 | Engineering Department, 542 Main Street, Dunedin, FL 34698 | June 9, 2014 | 125103
Georgia:
Coweta (FEMA Docket No.: B-1417) | City of Newnan (14-04-1178P) | The Honorable Keith Brady, Mayor, City of Newnan, 25 LaGrange Street, Newnan, GA 30263 | City Hall, 25 LaGrange Street, Newnan, GA 30263 | May 30, 2014 | 130062
Muscogee (FEMA Docket No.: B-1417) | City of Columbus-Muscogee County (Consolidated Government), (12-04-2939P) | The Honorable Teresa Tomlinson, Mayor, City of Columbus-Muscogee County (Consolidated Government), 100 10th Street, Columbus, GA 31901 | Department of Engineering, 420 10th Street, Columbus, GA 31901 | June 2, 2014 | 135158
South Carolina: Lexington (FEMA Docket No.: B-1417) | Unincorporated areas of Lexington County (14-04-0721P) | The Honorable William B. Banning, Sr., Chairman, Lexington County Council, 2109 Beaver Lane, West Columbia, SC 29169 | Lexington County Planning Department, County Administration Building, 212 South Lake Drive, Lexington, SC 29072 | June 6, 2014 | 450129
South Dakota:
Minnehaha (FEMA Docket No.: B-1411) | City of Hartford (13-08-1106P) | The Honorable Paul Zimmer, Mayor, City of Hartford, P.O. Box 727, Hartford, SD 57033 | City Hall, 125 North Main Avenue, Hartford, SD 57033 | June 16, 2014 | 460180
Minnehaha (FEMA Docket No.: B-1411) | Unincorporated areas of Minnehaha County (13-08-1106P) | The Honorable Cindy Heiberger, Chair, Minnehaha County Board of Commissioners, 415 North Dakota Avenue, Sioux Falls, SD 57104 | Minnehaha County Planning Department, 415 North Dakota Avenue, Sioux Falls, SD 57104 | June 16, 2014 | 460057

(Catalog of Federal Domestic Assistance No. 97.022, “Flood Insurance.”)

Dated: July 11, 2014.
Roy E. Wright,
Deputy Associate Administrator for Mitigation, Department of Homeland Security, Federal Emergency Management Agency.

[FR Doc. 2014-18099 Filed 7-31-14; 8:45 am]

BILLING CODE 9110-12-P